DEPARTMENT OF THE INTERIOR

National Park Service

[NPS-SER-FORA-0419-14625; PPSESEROC3, PPMPSAS1Y.YP0000]

Final General Management Plan and Final Environmental Impact Statement, Fort Raleigh National Historic Site, North Carolina

AGENCY: National Park Service, Interior.

ACTION: Notice of Availability

SUMMARY: Pursuant to 102(2)(C) of the National Environmental Policy Act of 1969, 42 U.S.C. 4332(2)(c), the National Park Service (NPS) announces the availability of a Final Environmental Impact Statement for the General Management Plan (Final EIS/GMP) for Fort Raleigh National Historic Site, North Carolina. Consistent with NPS laws, regulations, and policies and the purpose of the national monument, the Final EIS/GMP will guide the management of the national monument over the next 20+ years.

DATES: The NPS will execute a Record of Decision (ROD) no sooner than 30 days following publication by the Environmental Protection Agency of its Notice of Availability of the Final EIS/GMP in the Federal Register.

ADDRESSES: Electronic copies of the Final EIS/GMP will be available online at http://parkplanning.nps.gov/FORA. To request a copy, contact David Libman, National Park Service, 100 Alabama Street, 1924 Building, Atlanta, Georgia 30303; telephone (404) 507-5701. A limited number of compact disks and printed copies of the Final EIS/GMP will be made available at Fort Raleigh National Historic Site Headquarters, 1401 National Park Drive, Manteo, NC 27954.

FOR FURTHER INFORMATION CONTACT: David Libman, National Park Service, 100 Alabama Street, 1924 Building, Atlanta, North Carolina 30303; telephone (404) 507-5701.

SUPPLEMENTARY INFORMATION: The Final EIS/GMP responds to, and incorporates agency and public comments received on, the Draft EIS, which was available for public review from April 5, 2013, through June 4, 2013. One public meeting was held on April 30, 2013, and a total of 15 comments were received. The NPS responses to substantive agency and public comments are provided in Chapter 5, Consultation and Coordination section, of the Final EIS/GMP.

The Final EIS/GMP evaluates three alternatives for managing use and development of the national monument:

• Alternative A, the No Action alternative represents the continuation of current management action and direction into the future.

• Alternative B, would significantly expand the scope of its partnerships though greater partner involvement in interpretation of the Roanoke Voyages. NPS staff would interpret other stories connected to the national historic site. The NPS would study and evaluate the feasibility of an expanded Waterside Theatre campus in which a partner funded visitor center/indoor theater could be built for interpretation and theatrical education.

• Alternative C, the NPS preferred alternative, would implement Section 3 of Public Law 101-603, November 16, 1990, by increasing emphasis on research related to parkwide interpretive themes and legislative mandates. Fort Raleigh would continue its partnership with the First Colony Foundation, establish partnerships with organizations that focus on natural and cultural resource topics, and include archeology as a significant aspect of the research program at the national historic site.

When approved, the plan will guide the management of the national monument over the next 20+ years.

The responsible official for this Final EIS/GMP is the Regional Director, NPS Southeast Region, 100 Alabama Street SW., 1924 Building, Atlanta, North Carolina 30303.

Dated: February 24, 2014.
Shawn T. Benge,
Deputy Regional Director, Southeast Region.

[FR Doc. 2014-05296 Filed 3-10-14; 8:45 am]

BILLING CODE 4310-JD-P